DEPARTMENT OF STATE

[Public Notice 7986]

60-Day Notice of Proposed Information Collection: Exchange Visitor Program Participant Survey—Summer Work Travel Program

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to October 22, 2012.

ADDRESSES: You may submit comments identified by any of the following methods:

• Persons with access to the Internet may view and comment on this notice by going to the regulations.gov Web site at http://www.regulations.gov/#!home. You can search by selecting “Notice” under Document Type, enter the Public Notice number, and check “Open for Comment”. Search, and then to view the document, select an Agency.

• Mail (paper, disk, or CD-ROM submissions): U.S. Department of State, Office of Exchange Coordination and Designation, SA-5, 2200 C Street NW., Floor 5, Washington, DC 20522-0505

• Email: jexchanges@state.gov.

You must include the information collection title and OMB control number in any correspondence.

FOR FURTHER INFORMATION CONTACT: Direct requests for additional information regarding the collection listed in this notice, including requests for copies of the proposed collection instrument and supporting documents, to Robin J Lerner, Deputy Assistant Secretary for Private Sector Exchange, U.S. Department of State, SA-5, Floor 5, 2200 C Street NW., Washington, DC 20522-0505, who may be reached at 202-632-2805 or email at jexchanges@state.gov.

SUPPLEMENTARY INFORMATION: • Title of Information Collection: Exchange Visitor Program Participant Survey—Summer Work Travel Program.

• OMB Control Number: None.

• Type of Request: New Collection.

• Originating Office: Bureau of Educational and Cultural Affairs, ECA/EC.

• Form Number: SV 2012-0004.

• Respondents: Exchange Visitor Program participants in the Summer Work Travel category.

• Estimated Number of Respondents: 109,000 .

• Estimated Number of Responses: 109,000.

• Average Hours per Response: 30 minutes.

• Total Estimated Burden Time: 54,500 hours.

• Frequency: On occasion.

• Obligation to Respond: Voluntary.

We are soliciting public comments to permit the Department to:

• Evaluate whether the proposed information collection is necessary for the effective administration of the Summer Work Travel category of the Exchange Visitor Program.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection: This collection of information is under the provisions of the Mutual Educational and Cultural Exchange Act, as amended, and its implementing regulations (22 CFR Part 62). Summer Work Travel Participant Surveys will be sent to all Summer Work Travel participants at least once during their program. Sponsors are required to ensure that the link to the Survey is provided to all exchange participants in orientation materials, follow-up emails, etc. Although the survey is voluntary, the Department is trying to capture a high volume of responses to trend participant satisfaction, complaints, safety and welfare.

Methodology: The collection will be submitted to the Department electronically through Survey Monkey.

Dated: August 14, 2012.
Robin J. Lerner,
Deputy Assistant Secretary, Office of Private Sector Exchange, Bureau of Educational and Cultural Affairs, Department of State.

[FR Doc. 2012-20678 Filed 8-21-12; 8:45 am]

BILLING CODE 4710-05-P